FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 18, 2016.

A. Federal Reserve Bank of Minneapolis (Jacquelyn K. Brunmeier, Assistant Vice President) 90 Hennepin Avenue, Minneapolis, Minnesota 55480-0291:

1. John R. Rice, Brookings, South Dakota, and Mary D. Rice, Boston, Massachusetts; individually and as a group acting concert, to retain shares of Citizens State Bank of Arlington, Arlington, South Dakota.

B. Federal Reserve Bank of New York (Ivan Hurwitz, Vice President) 33 Liberty Street, New York, New York 10045-0001. Comments can also be sent electronically to Comments.applications@ny.frb.org:

1. Lawrence B. Seidman, Wayne, New Jersey; Seidman and Associates, LLC; Seidman Investment Partnership, LP; Seidman Investment Partnership II, LP; Seidman Investment Partnership III, LP, all of Parsippany, New Jersey; LSBK06-08, LLC, Palm Beach, Florida; Broad Park Investors, LLC; Chewy Gooey Cookies, LP, both of West Orange, New Jersey; CBPS, LLC, New York, New York; and 2514 Multi-Strategy Fund LP, Tampa, Florida; to increase their ownership of the shares of MSB Financial Corp, Millington, New Jersey, and thereby acquire shares of Millington Bank, Millington, New Jersey.

Board of Governors of the Federal Reserve System, September 28, 2016.
Michele Taylor Fennell,
Assistant Secretary of the Board.

[FR Doc. 2016-23825 Filed 9-30-16; 8:45 am]

BILLING CODE 6210-01-P